DEPARTMENT OF THE INTERIOR

Bureau of Land Management

[NM-220-1430-ET; NMNM 66022]

Notice of Proposed Withdrawal Extension and Opportunity for Public Meeting; New Mexico

AGENCY: Bureau of Land Management, Interior.

ACTION: Notice.

SUMMARY: The Bureau of Land Management (BLM) proposes to extend the duration of Public Land Order (PLO) No. 6675 for an additional 20 years. PLO No. 6675 withdrew 264.39 acres of public lands in Taos and Rio Arriba Counties from settlement, sale, location or entry under the general land laws, including the United States mining laws, to protect, preserve, and maintain existing and future recreational values and the Federal investment in improvements located along the “Pilar” section of the Rio Grande.

DATES: Comments and requests for a public meeting must be received by March 5, 2007.

ADDRESSES: Comments and meeting requests should be sent to the BLM Taos Field Manager, 226 Cruz Alta Road, Taos, New Mexico 87571.

FOR FURTHER INFORMATION CONTACT: Lora Yonemoto, BLM Taos Field Office, address above, or 505-751-4709.

SUPPLEMENTARY INFORMATION: The withdrawal created by PLO No. 6675 (53 FR 16269) will expire on May 5, 2008, unless extended. The BLM has filed an application to extend PLO No. 6675 for an additional 20-year period. The withdrawal was made to protect two sites important for recreational use on the Rio Grande, on public lands described as follows:

New Mexico Principal Meridian

County Line Site

T. 23 N., R. 10 E.,

Sec. 14, lot 4;

Sec. 15, lot 4.

Quartzite Site

T. 24 N., R. 11 E.,

Sec. 32, lots 5 to 8, inclusive, and SW¼SE¼.

The areas described aggregate 264.39 acres in Taos and Rio Arriba Counties.

The purpose of the proposed extension is to continue the withdrawal created by PLO No. 6675 for an additional 20-year term to protect the recreational values and the Federal investment in the Bureau of Land Management's Quartzite and County Line Recreational Sites on the Rio Grande.

As extended, the withdrawal would not alter the applicability of those public land laws governing the use of land under lease, license, or permit or governing the disposal of the mineral or vegetative resources other than under the mining laws.

The use of a right-of-way or interagency or cooperative agreement would not adequately constrain nondiscretionary uses and would not provide adequate protection of the Federal investment in the Quartzite and County Line Recreational Sites.

There are no suitable alternative sites available because the Quartzite and County Line Recreational Sites are already constructed on the above-described public lands.

No water rights would be needed to fulfill the purpose of the requested withdrawal extension.

Records relating to the application may be examined by interested parties by contacting Lora Yonemoto at the above address or 505-751-4709.

For a period of 90 days from the date of publication of this notice, all persons who wish to submit comments, suggestions, or objections in connection with the proposed withdrawal extension may present their views in writing to the BLM Taos Field Manager at the address noted above.

Comments, including names and street addresses of respondents, will be available for public review at the BLM Taos Field Office at the address noted above during regular business hours 7:45 a.m. to 4:30 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested persons who desire a public meeting for the purpose of being heard on the proposed withdrawal extension must submit a written request to the BLM Taos Field Manager within 90 days from the date of publication of this notice. If the authorized officer determines that a public meeting will be held, a notice of the time and place will be published in the Federal Register at least 30 days before the scheduled date of the meeting. This withdrawal extension proposal will be processed in accordance with the applicable regulations set forth in 43 CFR 2310.4.

(Authority: 43 CFR 2310.3-1)

Dated: November 15, 2006.
Sam DesGeorges,
Field Manager, Taos Field Office.

[FR Doc. E6-20565 Filed 12-4-06; 8:45 am]

BILLING CODE 4310-FB-P